COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee has received proposals to add to the Procurement List a commodity and services to be furnished by nonprofit agencies employing persons who are blind or have other severe disabilities.

COMMENTS MUST BE RECEIVED ON OR BEFORE: May 15, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodity and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information.

The following commodity and services have been proposed for addition to Procurement List for production by the nonprofit agencies listed:

Commodity

Handle, Jack, 5120-01-032-6042

NPA: Knox County ARC, Knoxville, Tennessee

Services

Distribution/Logistics Service

Defense Supply Center—Philadelphia, Philadelphia, Pennsylvania North Central Region

Lansing, Michigan

NPA: Peckham Vocational Industries, Inc., Lansing, Michigan

Medical Courier Services, Veterans Affairs Medical Center, 4100 West 3rd Street, Dayton, Ohio

NPA: The Clovernook Center, Opportunities for the Blind, Cincinnati, Ohio

Release of Information Copying Services for the following locations:

Veterans Affairs Medical Center, 421 North Main Street, Leeds, Massachusetts

Springfield Outpatient Clinic, 1550 Main Street, Springfield, Massachusetts

NPA: Massachusetts Commission for the Blind Ferguson Industries for the Blind, Cambridge, Massachusetts

Leon A. Wilson, Jr.,
Executive Director.

[FR Doc. 00-9353 Filed 4-13-00; 8:45 am]

BILLING CODE 6353-01-P